OFFICE OF SCIENCE AND TECHNOLOGY POLICY

Performance Review Board Membership

AGENCY: Office of Science and Technology Policy.

ACTION: Notice.

SUMMARY: The Office of Science and Technology Policy publishes the names of the members selected to serve on its SES Performance Review Board (PRB).

DATES: Membership is effective on the date this notice is published in the Federal Register to January 2027.

FOR FURTHER INFORMATION CONTACT: Ms. Caitlin Pepicelli, Human Capital Specialist or Ms. Stacy Murphy, Deputy Chief Operations Officer/Security Officer, Office of Science and Technology Policy, 1650 Pennsylvania Ave. NW, Washington, DC 20504, 202-456-4444.

SUPPLEMENTARY INFORMATION: Section 4314(c) of Title 5, U.S.C. requires each agency to establish, in accordance with regulations prescribed by the Office of Personnel Management, one or more PRBs. The purpose of this PRB is to review and make recommendations concerning proposed performance appraisals, ratings, bonuses, pay adjustments, and other appropriate personnel actions for incumbents of the SES positions. The Board shall consist of at least three members and more than half of the members shall consist of career appointees. The names and titles of the PRB members are as follows:

Marie Scott, Associate General Counsel, Children, Families and Aging Division, Department of Health and Human Services;

Scott Driggs, Chief Counsel, Office of the Chief Counsel, Denver, Department of Health and Human Services;

Rachel Park, Chief Counsel, Office of the Chief Counsel, New York, Department of Health and Human Services;

Constance Kossally, Chief Counsel, Office of the Chief Counsel, Atlanta, Department of Health and Human Services;

Alphonso J. Hughes, Executive Assistant Director, Administration Group, Bureau of ATF, Department of Justice;

Paula Lee, Chief Counsel, Office of the General Counsel, San Francisco, Department of Health and Human Services.

Dated: February 7, 2025.
Stacy Murphy,
Deputy Chief Operations Officer/Security Officer.

[FR Doc. 2025-02508 Filed 2-11-25; 8:45 am]

BILLING CODE 3270-F1-P